DEPARTMENT OF THE INTERIOR

National Park Service

[NPS-MWR-INDU-25223; PS.SMWLA0077.00.1]

Minor Boundary Revision at Indiana Dunes National Lakeshore

AGENCY: National Park Service, Interior.

ACTION: Notification of boundary revision.

SUMMARY: The boundary of Indiana Dunes National Lakeshore is modified to include 1.30 acres of land located in Porter County, Indiana, immediately adjacent to the boundary of the national lakeshore. The United States will acquire the parcel by a land exchange.

DATES: The effective date of this boundary revision is July 16, 2018.

ADDRESSES: The map depicting this boundary revision is available for inspection at the following locations: National Park Service, Land Resources Program Center, Midwest Region, 601 Riverfront Drive, Omaha, Nebraska 68102 and National Park Service, Department of the Interior, 1849 C Street NW, Washington, DC 20240.

FOR FURTHER INFORMATION CONTACT: Chief Realty Officer Daniel L. Betts, National Park Service, Land Resources Program Center, Midwest Region, 601 Riverfront Drive, Omaha, Nebraska 68102, telephone (402) 661-1780.

SUPPLEMENTARY INFORMATION: Notice is hereby given that, pursuant to 54 U.S.C. 100506(c), the boundary of Indiana Dunes National Lakeshore is modified to include 1.30 acres of adjacent land identified as Tract 09-131. The boundary revision is depicted on Map No. 626/140729, dated January, 2018.

54 U.S.C. 100506(c) provides that, after notifying the House Committee on Natural Resources and the Senate Committee on Energy and Natural Resources, the Secretary of the Interior is authorized to make this boundary revision upon publication of notice in the Federal Register. The Committees have been notified of this boundary revision. This boundary revision and subsequent acquisition will be accomplished in accordance with a settlement to a case pending in the Federal Court System regarding an encroachment onto Federal land. There will be no alienation of Federal land through the land exchange.

Dated: April 25, 2018.
Cameron H. Sholly,
Regional Director, Midwest Region.

[FR Doc. 2018-15072 Filed 7-13-18; 8:45 am]

BILLING CODE 4312-52-P